DEPARTMENT OF ENERGY

Federal Energy Regulatory Commission

[Project Nos. 13159-000 and 13230-000; Project No. 13231-000]

City of Marseilles, IL; Marseilles Land and Water Company; Notice of Competing Preliminary Permit Applications Accepted for Filing and Soliciting Comments, Motions To Intervene, and Competing Applications

December 24, 2008.

The City of Marseilles, Illinois (City) and the Marseilles Land and Water Company (Land and Water Company) have filed applications, pursuant to section 4(f) of the Federal Power Act, proposing to study the feasibility of projects on the North and South Head Races of the Illinois River in La Salle County, Illinois. The proposed projects would use the U.S. Army Corps of Engineers' Marseilles Lock and Dam.

On March 31, 2008, the City filed an application, Project No. 13159, for the proposed Marseilles Hydroelectric Project for surplus power production at the North Head Race. The proposed project would utilize the existing U.S. Army Corps of Engineers' Marseilles Lock and Dam, and install additional incremental capacity to a previously existing licensed project, Project No. 12020. The proposed project would consist of: (1) The existing 2,730-foot-long, 80 to 200-foot-wide North Head Race; (2) an existing powerhouse containing four new generating units having a total installed capacity of 5 megawatts; (3) a proposed 400-foot-long, 34-kilovolt transmission line; and (4) appurtenant facilities. The City's proposed Marseilles Hydroelectric Project for surplus power production at the North Head Race would have an average annual generation of 22.03 gigawatt-hours.

On May 20, 2008, the City filed a second application, Project No. 13230, for the proposed Marseilles Hydroelectric Project for power production at the North Head Race. The proposed project would utilize the existing U.S. Army Corps of Engineers' Marseilles Lock and Dam, and generate the now-available capacity from the recently terminated license in Project No. 12020. The project would consist of: (1) The existing 2,730-foot-long, 80-to 200-foot-wide North Head Race; (2) an existing powerhouse containing six new generating units having a total installed capacity of 4.745 megawatts; (3) a proposed 400-foot-long, 34-kilovolt transmission line; and (4) appurtenant facilities. The City's proposed Marseilles Hydroelectric Project for power production at the North Head Race would have an average annual generation of 37 gigawatt-hours.

On May 20, 2008, Land and Water Company filed an application, Project No. 13231, for the proposed Boyce Hydro-Marseilles Hydroelectric Project. The proposed project would utilize the existing U.S. Army Corps of Engineers' Marseilles Lock and Dam, and would consist of: (1) The existing 3,100-foot-long, 200-foot-wide North Head Race; (2) a proposed powerhouse containing three new generating units having a total installed capacity of 9.4 megawatts; (3) the existing 110-foot-wide south channel that narrows to approximately 50-feet-wide at the South Head Race; (4) a proposed 400-foot-long, 34-kilovolt transmission line; and (5) appurtenant facilities. The proposed Boyce Hydro-Marseilles Hydroelectric Project would have an average annual generation of 55 gigawatt-hours. Land and Water Company's proposed development competes with the two permit applications filed by the City.

Applicants Contact: For the City of Marseilles, Illinois: Ms. Jacquelyn Spencer, Clerk, City of Marseilles, Illinois, City Hall, 209 Lincoln Street, Marseilles, IL 61341, (815) 795-2133. For the Marseilles Land and Water Company: Mr. Lee W. Mueller, Vice President, Marseilles Land and Water Company, 4132 S Rainbow Boulevard, Las Vegas, NV 89103, (702) 367-7302.

FERC Contact: Robert Bell, (202) 502-6062.

Deadline for filing comments, motions to intervene, competing applications (without notices of intent), or notices of intent to file competing applications: 60 days from the issuance of this notice noted above.

Comments, motions to intervene, notices of intent, and competing applications may be filed electronically via the Internet. See 18 CFR 385.2001(a)(1)(iii) and the instructions on the Commission's Web site under the “eFiling” link. If unable to be filed electronically, documents may be paper-filed. To paper-file, an original and eight copies should be mailed to: Kimberly D. Bose, Secretary, Federal Energy Regulatory Commission, 888 First Street, NE., Washington, DC, 20426. For more information on how to submit these types of filings please go to the Commission's Web site located at http://www.ferc.gov/filing-comments.asp. More information about this project can be viewed or printed on the “eLibrary” link of the Commission's Web site at http://www.ferc.gov/docs-filing/elibrary.asp. Enter the docket number (P-13129, P-13143, or P-13284) in the docket number field to access the document. For assistance, call toll-free 1-866-208-3372.

Kimberly D. Bose,
Secretary.

[FR Doc. E8-31309 Filed 1-2-09; 8:45 am]

BILLING CODE 6717-01-P